SECURITIES AND EXCHANGE COMMISSION

[SEC File No. EBO 270-291, OMB Control No. 3235-0328]

Submission for OMB Review; Comment Request

Upon Written Request, Copies Available From: Securities and Exchange Commission, Office of FOIA Services, 100 F Street NE, Washington, DC 20549-2736

Extension:

Form ID

Notice is hereby given that, pursuant to the Paperwork Reduction Act of 1995 (44 U.S.C. 3501 et seq.) (the “Paperwork Reduction Act”), the Securities and Exchange Commission (“Commission”) has submitted to the Office of Management and Budget a request for extension and revisions of the previously approved collection of information discussed below.

Form ID (OMB Control No. 3235-0328) must be completed and filed with the Commission by all individuals, companies, and other organizations who seek access to file electronically on the Commission's Electronic Data Gathering, Analysis, and Retrieval system (“EDGAR”). Those seeking access to file on EDGAR typically include those who are required to make certain disclosures pursuant to the federal securities laws. The information provided on Form ID is an essential part of the security of EDGAR. Form ID is not a public document because it is used solely for the purpose of screening applicants and granting access to EDGAR. Form ID must be submitted whenever an applicant seeks an EDGAR identification number (Central Index Key or CIK) and/or access codes to file on EDGAR. The Commission may consider potential technical changes to the EDGAR filer access and filer account management processes (“potential access changes”) that include the addition of individual user account credentials as well as a filer management tool on EDGAR through which filers would manage their EDGAR accounts. If the potential access changes are implemented, the Commission anticipates that it would adopt amendments to certain Commission rules and forms to reflect the potential access changes, including Form ID. The potential access changes would include a filer designating on Form ID which of its users would act as filer administrator(s) to manage the filer's EDGAR account, analogous to the contact person listed on Form ID who currently receives access codes. The potential access changes would also include additional data fields on Form ID related to authorized individuals.¹

¹ An “authorized individual” for purposes of Form ID notarization process includes, for example, the Chief Executive Officer, Chief Financial Officer, partner, corporate secretary, officer, director, or treasurer of a company filer; or for individual filers, the individual filer or a person with a power of attorney from the individual filer. See EDGAR Filer Manual, Volume I, at Section 3.

Separately, the Commission may consider potential amendments to Form ID that would result in a more uniform and secure process for EDGAR access by requiring applicants that already have a CIK and no longer have access to EDGAR to apply for access by submitting a new Form ID, rather than by submitting a manual passphrase update request, as they do currently.² As part of their Form ID application, these applicants would continue to provide additional documentation as currently required by the EDGAR Filer Manual for manual passphrase update requests.³

² The manual passphrase update request is submitted by filers who do not possess access codes for their existing EDGAR accounts when the contact email address on their existing account is not accurate. (If the contact email address were accurate, they would be able to receive a security token to allow them to regain access without engaging in the manual passphrase update request process.)

³ See EDGAR Filer Manual, Volume I, at Section 4. See also Adoption of Updated EDGAR Filer Manual, Release No. 33-10948 (Jun. 21, 2021) [86 FR 40308 (Jul. 28, 2021)].

For purposes of the Paperwork Reduction Act, we currently estimate that there are 48,493 Form ID filings annually and that it takes approximately 0.15 hours per response to prepare for a total of 7,274 annual burden hours. The current burden includes the number of Form ID filings for filers without CIKs (48,089 filings) and filers with CIKs who have not filed electronically on EDGAR (404 filings).⁴ Filers are responsible for 100% of the total burden hours.

⁴ 48,089 filings for users without CIKs + 404 filings for filers with CIKs who have not yet filed electronically on EDGAR = 48,493 filings.

If the potential access changes and potential Form ID amendments become effective, for purposes of the Paperwork Reduction Act, we estimate that the number of Form ID filings would increase approximately by 8,836 annually ⁵ and that the number of hours to prepare Form ID would increase by 0.15 hours. The current approved estimate of the annual number of Form ID filings for filers without CIKs (48,089 filings) and filers with CIKs who have not filed electronically on EDGAR (404 filings) would stay the same.

⁵ We base this estimate on the average annual number of filings from filers with CIKs who submitted manual passphrase update requests for the past three federal fiscal years. ((6,871 filings per year + 7,978 filings per year + 11,659 filings per year)/3 years) = average of 8,836 filings per year.

Thus, for purposes of the Paperwork Reduction Act, the estimated total number of annual Form ID filings would increase from 48,493 filings to 57,329 filings.⁶ The estimate of 0.15 hours per response would increase to 0.30 hours per response. The estimated total annual burden would increase from 7,274 hours to 17,199 hours.⁷ The estimate includes the number of filers without CIKs, filers with CIKs who have not filed electronically on EDGAR, and filers with CIKs who are seeking to reaccess EDGAR. The estimate that the filers are responsible for 100% of the total burden hours would stay the same.

⁶ 48,493 filings + 8,836 filings = 57,329 filings.

⁷ 57,329 filings × 0.30 hours/filing = 17,199 hours.

In relation to the potential access changes described above, the Commission may consider amending Form ID to make technical modifications and clarifications. We do not believe that these technical modifications and clarifications to Form ID would make any substantive modifications to any existing collection of information requirements or impose any new substantive recordkeeping or information collection requirements within the meaning of the Paperwork Reduction Act.

The estimate of average burden hours is made solely for the purposes of the Paperwork Reduction Act. The estimate is not derived from a comprehensive or representative survey or study of the costs of Commission rules. Complying with this collection of information requirement is necessary to obtain the benefit of relying on Form ID. Responses will not be kept confidential. An agency may not conduct or sponsor, and a person is not required to respond to, a collection of information unless it displays a currently valid control number.

The public may view the background documentation for this information collection at the following website, www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) David Bottom, Director/Chief Information Officer, Securities and Exchange Commission, c/o John R. Pezzullo, 100 F Street NE, Washington, DC 20549, or by sending an email to: PRA_Mailbox@sec.gov. Comments must be submitted to OMB within 30 days of this notice.

Dated: December 13, 2021.
J. Matthew DeLesDernier,
Assistant Secretary.

[FR Doc. 2021-27291 Filed 12-16-21; 8:45 am]

BILLING CODE 8011-01-P